TENNESSEE VALLEY AUTHORITY

Environmental Impact Statement for Addition of Electric Generation Baseload Capacity in Tennessee

AGENCY: Tennessee Valley Authority (TVA).

ACTION: Cancellation notice.

On February 20, 2002, TVA published in the Federal Register (67 FR 7732-7733) a Notice of Intent (NOI) to prepare an Environmental Impact Statement to assess the impact of a proposal made by Pickwick Power, LLC (PPLLC) to build and operate a coal-fired generating plant in Tennessee. PPLLC had proposed a site in Hardin County near Savannah, Tennessee, near the west shore of the Tennessee River at mile 203.

The proposed plant would have supplied intermediate or baseload capacity to the TVA electric generation system to meet power demands. However, current market conditions make further consideration of the PPLLC project is unnecessary at this time. Therefore, the February 20th NOI is hereby rescinded.

FOR FURTHER INFORMATION CONTACT: Peter K. Scheffler, NEPA Administration, Environmental Policy and Planning, Tennessee Valley Authority, 400 West Summit Hill Drive, Knoxville, Tennessee 37902-1499; telephone (865) 632-8040 or e-mail pkscheffler@tva.gov.

Dated: December 13, 2002.
Kathryn J. Jackson,
Executive Vice President, River System Operations and Environment.

[FR Doc. 02-32187 Filed 12-20-02; 8:45 am]

BILLING CODE 8120-08-P